FARM CREDIT ADMINISTRATION

12 CFR Part 620

Disclosure to Shareholders

CFR Correction

In Title 12 of the Code of Federal Regulations, Parts 600 to 899, revised as of January 1, 2014, on page 242, in § 620.2, paragraph (e) is reinstated to read as follows:

§ 620.2 Preparing and filing reports.

* * * * *

(e) All items of essentially the same character as items required to be reported in the reports of condition and performance pursuant to part 621 of this chapter shall be prepared in accordance with the rules set forth in part 621.

* * * * *

[FR Doc. 2014-12307 Filed 5-23-14; 8:45 am]

BILLING CODE 1505-01-D